DEPARTMENT OF HOUSING AND URBAN DEVELOPMENT

[Docket No. FR-5300-N-07]

Notice of Availability: Notice of Funding Availability (NOFA) for Fiscal Year (FY) 2009 Healthy Homes Technical Studies

AGENCY: Office of Healthy Homes and Lead Hazard Control, HUD.

ACTION: Notice.

SUMMARY: Through this notice, HUD announces the availability on its Web site of the application information, submission deadlines, funding criteria, and other requirements for the FY2009 Healthy Homes Technical Studies NOFA. The Healthy Homes Technical Studies NOFA makes $4 million available under the Department of Housing and Urban Development Appropriations Act 2009 (Pub. L. 111-8, approved March 11, 2009). Applicants for assistance under the Healthy Homes Technical Studies NOFA must address applicable requirements found in the Notice of HUD's Fiscal Year 2009 Notice of Funding Availability (NOFA) Policy Requirements and General Section to the HUD's FY2009 NOFAs for Discretionary Programs published on December 29, 2008 (73 FR 79548), as amended on April 16, 2009 (74 FR 17685). Applicants should take particular note that they should follow the application submission instructions contained in this NOFA and not use those in the General Section. The notice providing information regarding the application process, funding criteria and eligibility requirements is available on the HUD Web site at http://www.hud.gov/lead.

FOR FURTHER INFORMATION CONTACT: For information concerning the Healthy Homes Technical Studies Program, contact Dr. Peter Ashley, Office of Healthy Homes and Lead Hazard Control, Department of Housing and Urban Development, 451 Seventh Street, SW., Room 8236, Washington, DC 20410-3000; telephone 202-402-7595 (this is not a toll-free number) or via e-mail at Peter.J.Ashley@hud.gov. Persons with speech or hearing impairments may access this telephone number via TTY by calling the toll-free Federal Information Relay Service during working hours at 800-877-8339.

Dated: June 18, 2009.
Jon L. Gant,
Director, Office of Healthy Homes and Lead Hazard Control.

[FR Doc. E9-15460 Filed 6-25-09; 4:15 pm]

BILLING CODE 4210-67-P